DEPARTMENT OF COMMERCE

International Trade Administration

Environmental Technologies Trade Advisory Committee (ETTAC)

AGENCY: International Trade Administration, U.S. Department of Commerce.

ACTION: Notice of open meeting.

Date: January 13, 2006.

Time: 9 a.m. to 4 p.m.

Place: Department of Commerce, 14th and Constitution NW., Washington, DC 20230, Room 4830.

SUMMARY: The Environmental Technologies Trade Advisory Committee (ETTAC) will hold a plenary meeting on January 13, 2006, at the U.S. Department of Commerce, 14th Street and Constitution Avenue, NW., Washington, DC 20230, in Room 4830. The ETTAC will discuss global climate change mitigation initiatives, the European Union's electronic and other waste initiatives, updated negotiations in the World Trade Organization's environmental goods and services trade liberalization, the Export-Import Bank's environmental exports program, U.S. EPA's Environmental Technologies Verification (ETV) Program, the USG role in the Asia-Pacific Partnership, and an overview of the U.S. International Trade Commission's environmental services sector market analysis. The meeting is open to the public and time will be permitted for public comment.

Written comments concerning ETTAC affairs are welcome anytime before or after the meeting. Minutes will be available within 30 days of this meeting.

The ETTAC is mandated by Public Law 103-392. It was created to advise the U.S. government on environmental trade policies and programs, and to help it to focus its resources on increasing the exports of the U.S. environmental industry. ETTAC operates as an advisory committee to the Secretary of Commerce and the Trade Promotion Coordinating Committee (TPCC). ETTAC was originally chartered in May of 1994. It was most recently rechartered until May 30, 2006.

For further information phone Ellen Bohon, Office of Energy and Environmental Technologies Industries (OEEI), International Trade Administration, U.S. Department of Commerce at (202) 482-0359. This meeting is physically accessible to people with disabilities. Requests for sign language interpretation or other auxiliary aids should be directed to OEEI at (202) 482-5225.

Dated: December 15, 2005.
Joe O. Neuhoff,
Director, Office of Energy and Environmental Industries.

[FR Doc. E5-7767 Filed 12-22-05; 8:45 am]

BILLING CODE 3510-DR-P